DEPARTMENT OF LABOR

Employment and Training Administration

[TA-W-61,000]

Gibraltar DFC Strip Steel LLC; Farrell, PA; Notice of Revised Determination on Reconsideration

On May 21, 2007, the Department issued an Affirmative Determination Regarding Application on Reconsideration applicable to workers and former workers of the subject firm. The notice was published in the Federal Register on May 30, 2007 (72 FR 30031).

The previous investigation initiated on February 22, 2007, resulted in a negative determination issued on April 6, 2007, was based on the finding that increased imports of cold rolled strip steel did not contribute importantly to worker separations or the decline in sales or production at the subject firm. Furthermore, there was no shift of production to a foreign country. The denial notice was published in the Federal Register on April 24, 2007 (72 FR 20370).

In the request for reconsideration, the petitioner provided information regarding customers of the subject firm. The Department requested from a company official an additional list of declining customers of the subject firm.

A survey of these declining customers revealed that import purchases of cold rolled strip steel increased from 2005 to 2006 and during January through February of 2007 when compared with the same period of 2006. The increased imports accounted for a significant portion of the subject firm's sales decline during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Gibraltar DFC Strip Steel LLC, Farrell, Pennsylvania, contributed importantly to the total or partial separation of workers and to the declines in sales or production at that firm. In accordance with the provisions of the Act, I make the following revised determination:

“All workers of Gibraltar DFC Strip Steel LLC, Farrell, Pennsylvania, who became totally or partially separated from employment on or after February 20, 2006 through two years from the date of this certification, are eligible to apply for adjustment assistance under Section 223 of the Trade Act of 1974, and are eligible to apply for alternative trade adjustment assistance under Section 246 of the Trade Act of 1974.”

Signed in Washington, DC, this 15th day of June 2007.
Linda G. Poole,
Certifying Officer, Division of Trade Adjustment Assistance.

[FR Doc. E7-12075 Filed 6-21-07; 8:45 am]

BILLING CODE 4510-FN-P